DEPARTMENT OF TRANSPORTATION

Federal Aviation Administration

Advisory Circular 23.1311-1B, Installation of Electronic Displays in Part 23 Airplanes

AGENCY: Federal Aviation Administration (FAA), DOT.

ACTION: Notice of availability of proposed advisory circular (AC) and request for comments.

SUMMARY: This notice announces the availability of and requests comments on a proposed AC. Proposed AC 23.1311-1B provides information and guidance concerning an acceptable means, but not the only means, of compliance with Title 14 of the Code of Federal Regulations (14 CFR), part 23, applicable to the installation of electronic displays in part 23 airplanes. This AC contains over twenty updates since the last issuance. Two of the major revisions are new sections: field-of-view and color for weather displays.

DATES: Comments must be received on or before August 27, 2004.

ADDRESSES: Send all comments on the proposed AC to: Federal Aviation Administration, Small Airplane Directorate, Aircraft Certification Service, Regulations and Policy (ACE-111), 901 Locust Street, Kansas City, Missouri 64106. Electronic comments may be sent to the individual named under FOR FURTHER INFORMATION CONTACT.

FOR FURTHER INFORMATION CONTACT: Mr. Ervin Dvorak (erv.dvorak@faa.gov), Standards Office, Small Airplane Directorate, Aircraft Certification Service, Kansas City, Missouri 64106, telephone (816) 329-4123, fax (816) 329-4090.

SUPPLEMENTARY INFORMATION: Any person may obtain a copy of this proposed AC by contacting the person named above under FOR FURTHER INFORMATION CONTACT. A copy of the AC will also be available on the Internet at http://www.airweb.faa.gov/AC within a few days.

Comments Invited: We invite interested parties to submit comments on the proposed AC. Commenters must identify AC 23.1311-1B and submit comments to the address specified above. The FAA will consider all communications received on or before the closing date for comments before issuing the final AC. The proposed AC and comments received may be inspected at the Standards Office (ACE-110), 901 Locust, Room 301, Kansas City, Missouri, between the hours of 8:30 and 4:00 p.m. weekdays, except Federal holidays, by making an appointment in advance with the person listed under FOR FURTHER INFORMATION CONTACT.

Background: AC 23.1311-1B, “Installation of Electronic Displays in Part 23 Airplanes,” will replace AC 23.1311-1A, “Installation of Electronic Display Instrument Systems in Part 23 Airplanes,” dated March 12, 1999.

Amendment 23-41, effective November 26, 1990, established airworthiness standards under § 23.1311 for installing electronic display instrument systems in normal, utility, acrobatic, and commuter category airplanes. When the first electronic displays were developed, they replaced conventional electromechanical components. Later designs provided more extensive information integration. Amendment 23-49, effective March 11, 1996, harmonized 14 CFR, part 23, with the Joint Aviation Requirements. The most recent revision to § 23.1311 removed redundant requirements and clarified what secondary instruments are required.

Issued in Kansas City, Missouri on June 16, 2004.
William J. Timberlake,
Acting Manager, Small Airplane Directorate, Aircraft Certification Service.

[FR Doc. 04-14632 Filed 6-25-04; 8:45 am]

BILLING CODE 4910-13-P